DEPARTMENT OF THE INTERIOR

Bureau of Indian Affairs

Grant Availability to Federally-Recognized Indian Tribes for Projects Implementing Traffic Safety on Indian Reservations

AGENCY: Bureau of Indian Affairs, Interior.

ACTION: Notice.

SUMMARY: In accordance with the Surface Transportation and Uniform Relocation Assistance Act of 1987, and as authorized by the Secretary of Transportation, the Bureau of Indian Affairs intends to make funds available to federally-recognized Indian tribes on an annual basis for implementing traffic safety projects, which are designed to reduce the number of traffic crashes, deaths, injuries and property damage within Indian country. Because of the limited funding available for this project, all projects will be reviewed and selected on a competitive basis. This notice informs Indian tribes that grant funds are available and that the information packets are forthcoming. Information packets will be distributed to all tribal leaders on the latest tribal leaders list that is complied by the Bureau of Indian Affairs.

DATES: Requests for funds must be received by May 1 of each program year. Requests not received in the office of the Indian Highway Safety Program by close of business on May 1 will not be considered. The information packets will be distributed by the end of January of each program year.

ADDRESSES: Each tribe must submit their request to the Bureau of Indian Affairs, Division of Safety and Risk Management, Attention: Indian Highway Safety Program Coordinator, 201 3rd Street, NW., Suite 310, Albuquerque, NM 87102.

FOR FURTHER INFORMATION CONTACT: Tribes should direct questions on the grant program to Patricia Abeyta, Coordinator, Indian Highway Safety Program or to Charles L. Jaynes, Program Administrator, Bureau of Indian Affairs, 201 3rd Street, NW., Suite 310, Albuquerque, New Mexico 87102; Telephone: (505) 245-2104.

SUPPLEMENTARY INFORMATION:

Background

The Federal-Aid Highway Act of 1973 (Pub. L. 93-87) provides for U.S. Department of Transportation (DOT) funding to assist Indian tribes in implementing Highway Safety projects. The projects must be designed to reduce the number of traffic crashes and their resulting fatalities, injuries, and property damage within Indian reservations. All federally-recognized Indian tribes on Indian reservations are eligible to receive this assistance. All tribes receiving awards of program funds are reimbursed for eligible costs incurred under the terms of 23 U.S.C. 402 and subsequent amendments.

Responsibilities

For purposes of application of the Act, Indian reservations are collectively considered a “State” and the Secretary of the Interior is considered the “Governor of a State.” The Secretary of the Interior delegated the authority to administer the programs for all the Indian Nations in the United States to the Assistant Secretary—Indian Affairs. The Assistant Secretary—Indian Affairs further delegated the responsibility for administration of the Indian Highway Safety Program to the Central Office, Division of Safety and Risk Management (DSRM), located in Albuquerque, New Mexico. The Chief, DSRM, as Program Administrator of the Indian Highway Safety Program, has staff members available to provide program and technical assistance to the Indian tribes. The Indian Highway Safety Program maintains contacts with the DOT with respect to program approval, funding and receiving technical assistance. DOT, through the National Highway Traffic Safety Administration (NHTSA), is responsible for ensuring that the Indian Highway Safety Program is carried out in accordance with 23 CFR part 1200 and other applicable Federal statutes and regulations.

National Priority Program Areas

The following highway safety program areas have been identified as eligible for funding under 23 CFR part 1205 based on an identifiable traffic safety problem on tribal lands:

• Alcohol Countermeasures.

• Police Traffic Services.

• Occupant Protection.

• Traffic Records.

• Emergency Medical Services.

• Safe Communities.

• Motorcycle Safety.

• Pedestrian and Bicycle Safety.

• Speed Control.

Highway Safety Program Funding Areas

Proposals are being solicited for the following program areas:

(1) Police Traffic Services. Selective traffic enforcement projects (STEPs) to enforce posted speed limits, apprehend reckless drivers and other traffic law violations, and specialized training for traffic law enforcement officers and judicial system officials.

(2) Alcohol Countermeasures. STEPs to apprehend impaired drivers, specialized law enforcement training (such as Standardized Field Sobriety Testing), public information programs on alcohol/other drug use and driving, education programs for convicted DWI/DUI offenders and various youth alcohol education programs promoting traffic safety. Proposals for projects that enhance the development and implementation of innovative programs to combat impaired driving are also solicited.

(3) Emergency Medical Services. Traffic safety related training primarily for rural emergency medical service providers, public education, and injury prevention.

(4) Occupant Protection. Surveys to determine usage rates and to identify high-risk non-users, comprehensive programs to promote correct usage of child safety seats and other occupant restraints, STEPs, specialized training (such as Operation Kids, Traffic Occupant Protection Strategies (TOPS), and Standardized Child Passenger Safety Technician), and evaluations.

(5) Traffic Records. Conduct assessments, analyze vehicular crash occurrences and causal factors and support joint efforts with other agencies to improve the tribe's traffic records system.

(6) Motorcycle Safety. Public education and motorcycle operator training.

(7) Safe Communities. Problem identification, data collection, plan development, and program implementation.

(8) School Bus Safety. School bus transportation administrator support, school bus driver education and training.

(9) Pedestrian/Bicycle Safety. Traffic law enforcement, public education and community programs.

Project Guidelines

BIA will send information packets to the Tribal Leader of each federally-recognized Indian tribe by the end of January of each program year. On receiving the information packet, each tribe, to be eligible, must prepare a proposed project based on the following guidelines:

(1) Program Planning. Program planning must be based upon the highway safety problems identified and the goals/objectives measures selected by the tribe.

(2) Problem Identification. Highway traffic safety problems must be based on tribal data. County data or other data not specific to the tribe will not be accepted. This data should be sufficient enough to show problems and/or trend analysis. This data should be available in tribal enforcement and traffic crash records. The problem identification process may be aided by using professional studies, testing, and Indian Health Service. Data must accompany the funding request.

(3) Countermeasures Selection. Once tribal traffic safety problems are identified, appropriate countermeasures to solve or reduce the problem(s) must be identified. The tribe should consider the overall cost of the countermeasures versus their possible effect on the problem.

(4) Objectives/Performance Indicator. A list of objectives and measurable highway safety goals, within the National Priority Program Areas, based on highway safety problems identified by the tribe, must be included in each proposal, expressed in clearly defined, time-framed, and measurable terms. Each goal must be accompanied by at least one performance indicator that enables the Indian Highway Safety Program to track progress, from a specific baseline, towards meeting the goal (e.g., a goal to “increase safety belt use from XX percent in 2003 to YY percent in 2004,” using a performance measure of “percent of restrained occupants in front outboard seating positions in passenger motor vehicles”). Performance measures should be aggressive but attainable.

(5) Budget Forma. The activities to be funded will be outlined in detail according to the following object groups: Personnel services; travel; and transportation; rent/communications; printing and reproduction, other services, equipment and training. Equipment purchases $5,000 or more require prior approval from NHTSA. Each object group must be quantified; i.e., personnel activities should show number to be employed, hours to be employed, hourly rate of pay, etc. Each object group must have sufficient detail to show what is to be procured, unit cost, quarter in which the procurement is to be made, and the total cost, including any tribal contribution to the project. Because of limited funding, this office will limit indirect costs to a maximum of 15 percent.

(6) Evaluation Plan. Evaluation is the process of determining whether a highway safety activity should be undertaken, if it is being properly conducted, and if it has accomplished its objectives. The tribe must include in the funding request a plan explaining how the evaluation will be accomplished and identifying the criteria to be used in measuring performance.

(7) Technical Assistance. The Indian Highway Safety Program staff will be available to tribes for technical assistance in developing of tribal projects.

(8) Project Length. The traffic safety program is designed primarily as the source of invention and motivation, rather than as financially supporting continuing operations.

(9) Certification Regarding Drug-Free Workplace Requirement. Indian tribes receiving highway safety grants through the Indian Highway Safety Program must certify that they will maintain a drug-free workplace. An individual authorized to sign for the tribe or reservation must sign the certification. The Department of Transportation must receive the certification before it will release grant funds for that tribe or reservation. The certification must be submitted with the tribal Highway Safety Project proposal.

Submission Deadline

Each tribe must send its funding request to the BIA Indian Highway Safety Program office in Albuquerque, New Mexico. The Indian Highway Safety Program office must receive the request by close of business May 1 of each program year. Requests for extensions to this deadline will not be granted. Modifications of the funding request received after the close of the funding period will not be considered in the review and selection process.

Selection Criteria

Each funding request will be reviewed and evaluated by the BIA's Indian Highway Safety Program, Law Enforcement, Department of Education, Office of Alcohol and Substance Abuse, and Division of Transportation staff. Each staff member, by assigning points to the following five criteria, will rank each of the proposals based on the following criteria:

Criteria 1, the strength of the problem identification based on verifiable, current and applicable documentation of the traffic safety problem (40 points maximum).

Criteria 2, the quality of the proposed solution plan based on aggressive but attainable performance measures, time-framed action plan, cost eligibility, amount, if any, of in-kind funding/support provided by the tribe, and necessity and reasonableness of the budget (30 points maximum).

Criteria 3, details on how the tribe will evaluate and show progress on its performance measures regarding the Evaluation component (20 points maximum).

Criteria 4, supporting documentation of the submitting tribe's qualifications, commitment, and community involvement in traffic safety (10 points maximum).

Criteria 5, tribes are eligible for bonus points (up to 10 extra points) if all reporting requirements have been met in previous years.

Notification of Selection

The tribes selected to participate will be notified by letter. Upon notification, each tribe selected must provide a duly authorized tribal resolution. The certification and resolution must be on file before grant funds for the tribe can be released.

Notification of Non-Selection

The Program Administrator will notify each tribe of non-selection. The tribe will be provided the reason for non-selection. Non-selected proposals may be retained, with score sheets, for 90 days.

Uniform Administrative Requirements for Grant-in-Aid

Uniform grant administration procedures have been established on a national basis for all grant-in-aid programs by DOT/NHTSA under 49 CFR part 18, “Uniform Administrative Requirements for Grants and Cooperative Agreements to State and Local Governments.” NHTSA and FHWA have codified uniform procedures for State Highway Safety Programs in 23 CFR parts 1200, 1205 and 1251. OMB Circular A-87 and the “Highway Safety Grant Funding Policy for NHTSA/FHWA Field-Administered Grants” are the established cost principles applicable to grants and contracts through BIA and with tribal governments. It is the responsibility of BIA's Indian Highway Safety Program office to establish operating procedures consistent with the applicable provisions of these rules.

Standards for Financial Management System

Tribal financial systems must provide:

(1) Current and complete disclosure of project activities.

(2) Accurate and timely recordkeeping.

(3) Accountability and control of all grant funds and equipment.

(4) Comparison of actual expenditures with budgeted amounts.

(5) Documentation of accounting records.

(6) Appropriate auditing of Highway Safety Projects, which will be included in the Tribal A-133 single audit requirement.

Tribes will provide monthly program status reports and a corresponding reimbursement claim to the Coordinator, BIA Indian Highway Safety Program, 201 3rd Street, NW., Suite 310, Albuquerque, New Mexico 87102. These will be submitted no later than 10 work days beyond the reporting month.

Project Monitoring

During the program year, it is the responsibility of the BIA Indian Highway Safety Program office to review the implementation of tribal traffic safety plans and programs, monitor the progress of their activities and expenditures, and provide technical assistance as needed.

Project Evaluation

BIA will conduct an annual performance evaluation for each Highway Safety Project. The evaluation will measure the actual accomplishments to the planned activity. BIA will evaluate the project on-site at the discretion of the Indian Highway Safety Program Administrator.

Dated: February 11, 2005.
David W. Anderson,
Assistant Secretary—Indian Affairs.

[FR Doc. 05-4367 Filed 3-4-05; 8:45 am]

BILLING CODE 4310-5H-P